DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2006, there were four applications approved. This notice also includes information on two applications, both approved in June 2006, inadvertently left off the June 2006 notice. Additionally, 20 approved amendments to previously approved applications are listed.

SUMMARY: The FAA publishes a monthly notice, as appropriate, of PFC approvals and disapprovals under the provisions of the Aviation Safety and Capacity Expansion Act of 1990 (title IX of the Omnibus Budget Reconciliation Act of 1990) (Pub. L. 101-508) and part 158 of the Federal Aviation Regulations (14 CFR Part 158). This notice is published pursuant to paragraph (d) of § 158.29.

PFC Applications Approved

Public Agency: Burbank-Glendale-Pasadena Airport Authority, Burbank, California.

Application Number: 06-07-C-00-BUR.

Application Type: Impose and use a PFC.

PFC Level: $4.50.

Total PFC Revenue Approved in This Decision: $19,543,195.

Earliest Charge Effective Date: February 1, 2011.

Estimated Charge Expiration Date: September 1, 2012.

Class of Air Carriers Not Required To Collect PFCs: Non-scheduled, on-demand air carriers filing FAA Form 1800-31.

Determination: Approved. Based on information contained in the public agency's application, the FAA has determined that the approved class accounts for less than 1 percent of the total annual enplanements at Bob Hope Airport.

Brief Description of Projects Approved for Collection and Use at a $4.50 PFC Level:

Passenger terminal improvements II.

Airport security.

Airport public safety.

Brief Description of Projects Approved for Collection and Use at a $3.00 PFC Level:

Landside access improvements.

Passenger terminal improvements I.

Airport facility building improvements I.

Airport facility building improvements II.

Part 150 update.

Electrification system for ground service equipment.

Airfield infrastructure improvements I.

Brief Description of Projects Approved for Collection for Future Use at a $4.50 PFC Level:

Taxiway D extension.

Terminal ramp renovations.

Decision Date: June 26, 2006.

For Further Information Contact: Ruben Cabalbag, Los Angeles Airports District Office, (310) 725-3630.

Public Agency: Bradford Regional Airport Authority, Lewis Run, Pennsylvania.

Application Number: 06-06-C-00-BFD.

Application Type: Impose and use a PFC.

PFC Level: $4.50.

Total PFC Revenue Approved in this Decision: $127,979.

Earliest Charge Effective Date: December 1, 2015.

Estimated Charge Expiration Date: November 1, 2017.

Class of Air Carriers Not Required to Collect PFC's: Air taxi/commercial operators filing FAA Form 1800-31.

Determination: Approved. Based on information contained in the public agency's application, the FAA has determined that the approved class accounts for less than 1 percent of the total annual enhancements at Bradford Regional Airport.

Brief Description of Projects Approved for Collection and Use:

Security enhancements.

Obstruction removal (design and acquire easements).

Construct runway safety area, runway 32, phase I (design).

Rehabilitate terminal apron (design and construction).

Rehabilitate runway 14/32 high intensity runway lights.

Acquire land (mineral rights—approach).

PFC application and administration.

Decision Date: June 29, 2006.

For Further Information Contact: Lori Ledebohm, Harrisburg Airports District Office, (717) 730-2835.

Public Agency: Port of Bellingham, Bellingham, Washington.

Application Number: 06-07-C-00-BLI.

Application Type: Impose and use a PFC.

PFC Level: $4.50.

Total PFC Revenue Approved in this Decision: $1,058,649.

Earliest Charge Effective Date: October 1, 2006.

Estimated Charge Expiration Date: September 1, 2010.

Class of Air Carriers Not Required to Collect PFC's: None.

Brief Description of Projects Approved for Collection and Use:

Design and construct runway safety area.

Purchase and install access control and digital video system.

Design and construction tie-down and taxiway B relocation.

Taxiways E, F, and A design and construction management.

Reconstruct taxiways E, F, and A.

Phase II terminal remodel.

Secure area model.

Decision Date: July 3, 2006.

For Further Information Contact: Suzanne Lee-Pang, Seattle Airports District Office, (425) 227-2654.

Public Agency: Monroe County, Rochester, New York.

Application Number: 06-04-C-00-ROC.

Application Type: Impose and use a PFC.

PFC Level: $4.50.

Total PFC Revenue Approved in this Decision: $36,932,278.

Earliest Charge Effective Date: September 1, 2013.

Estimated Charge Expiration Date: June 1, 2021.

Class of Air Carriers Not Required to Collect PFC's: None.

Brief Description of Projects Approved for Collection and Use:

Terminal renovations.

Taxiway A construction.

Brief Description of Withdrawn Project: Concourse B expansion.

Determination: This project was withdrawn by the public agency by letter dated June 9, 2006.

Decision Date: July 11, 2006.

For Further Information Contact: John Moretto, New York Airports District Office, (516) 227-3806

Public Agency: Indian Wells Valley Airport District, Inyokern, California.

Application Number: 06-05-C-00-IYK.

Application Type: Impose and use a PFC.

PFC Level: $4.50.

Total PFC Revenue Approved in This Decision: $89,999.

Earliest Charge Effective Date: September 1, 2006.

Estimated Charge Expiration Date: February 1, 2009.

Class of Air Carriers Not Required To Collect PFC's: None.

Brief Description of Projects Approved For Collection and Use:

Rehabilitate runways, taxiways, and aprons, phase I.

Master plan update.

Rehabilitate runways, taxiways, and aprons, phase II.

Replace runway/taxiway regulators.

Aircraft rescue and firefighting proximity safety suits.

Airport entrance sign.

Brief Description of Disapproved Project: Fuel Farm.

Determination: The installation of fuel farms at primary airports is not eligible under the Airport Improvement Program (AIP), paragraphs 301a and 301b and Appendix 1 of FAA Order 5100.38C, AIP Handbook (June 28, 2005). Therefore this project does not meet the requirements of § 158.15(b).

Decision Date: July 20, 2006.

For Further Information Contact: David Delshad, Los Angeles Airports District Office, (310) 725-3627.

Public Agency: Peninsula Airport Commission, Newport News, Virginia.

Application Number: 03-01-C-00-PHF.

Application Type: Impose and use a PFC.

PFC Level: $3.00.

Total PFC Revenue Approved in This Decision: $552,500.

Earliest Charge Effective Date: October 1, 2006.

Estimated Charge Expiration Date: July 1, 2007.

Class of Air Carriers Not Required To Collect PFC's: Non-scheduled/on demand air carriers filing FAA Form 1800-31.

Determination: Approved. Based on information contained in the public agency's application, the FAA has determined that the approved class accounts for less than 1 percent of the total annual enplanements at Newport News/Williamsburg International Airport.

Brief Description of Projections Approved for Collection and Use:

Relocation of taxiway C, lighting and marking (design).

Design airfield signage system.

Install airfield signage system.

Airport master plan update.

Construct corporate apron (design only).

Runway 2/20 high intensity runway lights, taxiways A and C medium intensity taxiway lights.

Conduct environmental assessment and wildlife study.

Runway 25 runway protection zone land acquisition.

Acquire aircraft rescue and firefighting vehicle.

Safety area improvements and pavement rehabilitation, runway 2/20.

Install perimeter fencing.

Construct south corporate apron (phase I).

Rehabilitate and strengthen taxiway D and construct taxiway fillets leading from the runway system to the south corporate apron.

Rehabilitate airfield lighting on runway 7/25.

South corporate taxiway and apron construction.

Decision Date: July 28, 2006.

For Further Information Contact: Luis Loarte, Washington Airports District Office, (703) 661-1365.

Amendments to PFC Approvals

Amendment No., city, State | Amendment approved date | Original approved net PFC revenue | Amended approved net PFC revenue | Original estimated charge exp. date | Amended estimated charge exp. date
02-04-C-01-ASE, Aspen, Co | 03/13/06 | $986,381 | $713,146 | 08/01/04 | 08/01/04
93-01-C-02-PVD, PROVIDENCE, RI | 05/10/06 | 104,297,014 | 100,036,720 | 11/01/07 | 03/01/08
97-02-C-01-PVD, PROVIDENCE, RI | 05/10/06 | 3,892,980 | 3,892,980 | 04/01/08 | 09/01/08
01-08-C-01-BNA, Nashville, TN | 05/31/06 | 3,727,000 | 4,514,173 | 10/01/02 | 10/01/02
03-08-C-01-JAX, Jacksonville, FL | 06/16/06 | 68,357,263 | 73,281,526 | 11/01/08 | 01/01/08
00-03-C-04-MSO, Missoula, MT | 06/26/06 | 2,500,000 | 765,376 | 12/01/04 | 03/01/03
04-03-C-01-MFE, McAllen, TX | 06/27/06 | 2,075,050 | 2,422,937 | 01/01/07 | 04/01/07
94-02-C-04-MSP, Minneapolis, MN | 06/28/06 | 140,778,569 | 140,717,131 | 03/01/99 | 03/01/99
01-04-C-01-SLC, Salt Lake City, UT | 06/29/06 | 28,887,570 | 29,112,809 | 02/01/03 | 05/01/03
03-06-C-01-SLC, Salt Lake City, UT | 06/29/06 | 39,756,400 | 62,532,179 | 06/01/04 | 02/01/05
03-08-C-01-SLC, Salt Lake City, UT | 06/29/06 | 7,520,800 | 9,035,419 | 11/01/06 | 07/01/07
95-03-C-03-CLE, Cleveland, OH | 06/30/06 | 20,700,642 | 19,946,762 | 02/01/97 | 11/01/96
00-02-C-02-MFE, McAllen, TX | 06/30/06 | 2,032,942 | 2,212,942 | 10/01/04 | 10/01/04
**92-01-C-06-LAS, Las Vegas, NV | 07/05/06 | 1,052,934,909 | 849,713,056 | 07/01/11 | 07/01/11
93-02-C-04-LAS, Las Vegas, NV | 07/05/06 | 21,496,000 | 25,205,502 | 11/01/01 | 11/01/11
94-03-U-03-LAS, Las Vegas, NV | 07/05/06 | NA | NA | 11/01/11 | 11/01/11
94-04-C-03-LAS, Las Vegas, NV | 07/05/06 | 510,808,093 | 511,150,507 | 01/01/17 | 01/01/17
03-02-C-02-LGB, Long Beach, CA | 07/07/06 | 30,306,984 | 62,344,903 | 10/01/09 | 05/01/17
02-02-C-01-BZN, Bozeman, MT | 07/14/06 | 1,790,000 | 1,751,216 | 01/01/06 | 11/01/05
98-03-C-07-CVG, Covington, KY | 07/24/06 | 24,833,000 | 24,852,000 | 08/01/99 | 08/01/99

Issued in Washington, DC, on August 8, 2006.
Joe Hebert,
Manager, Financial Analysis and Passenger Facility Charge Branch.

[FR Doc. 06-6863 Filed 8-10-06; 8:45 am]

BILLING CODE 4910-13-M